DEPARTMENT OF JUSTICE

Parole Commission

Sunshine Act Meeting, Public Announcement

Pursuant To The Government In the Sunshine Act (Public Law 94-409) [5 U.S.C. Section 552b].

AGENCY HOLDING MEETING: Department of Justice, United States Parole Commission.

DATE AND TIME: 10:30 a.m., Wednesday, January 17, 2001.

PLACE: U.S. Parole Commission, 5550 Friendship Boulevard, 4th Floor, Chevy Chase, Maryland 20815.

STATUS: Closed—Meeting.

MATTERS CONSIDERED: The following matter will be considered during the closed portion of the Commission's Business Meeting:

Appeals to the Commission involving approximately one case decided by the National Commissioners pursuant to a reference under 28 CFR 2.27. This case was originally heard by an examiner panel wherein inmates of Federal prisons have applied for parole and are contesting revocation of parole or mandatory release.

AGENCY CONTACT: Sam Robertson, Case Operations, United States Parole Commission, (301) 492-5962.

Dated January 9, 2001.
Michael A. Stover,
General Counsel, U.S. Parole Commission.

[FR Doc. 01-1161 Filed 1-10-01; 11:08 am]

BILLING CODE 4410-31-M